NUCLEAR REGULATORY COMMISSION

[NRC-2023-0036]

NRC Bulletin 2012-01: Design Vulnerability in Electric Power System

AGENCY: Nuclear Regulatory Commission.

ACTION: Bulletin; closure.

SUMMARY: The U.S. Nuclear Regulatory Commission (NRC) is issuing this notice to inform all holders of operating licenses and combined licenses for nuclear power reactors of the closure of “NRC Bulletin 2012-01: Design Vulnerability in Electric Power System” (Bulletin). NRC has completed evaluations and inspections of the responses and other actions taken by the licensees of the nuclear power plants in response to NRC Bulletin 2012-01. The staff has approved the actions to be taken by the licensee for Vogtle Units 3 and 4 following commencement of operations and will inspect these actions under the Reactor Oversight Process. The NRC staff concludes that any potential adverse impact on nuclear plant safety due to an open phase condition (OPC) in the plant offsite power system has been adequately addressed by the licensees.

DATES: NRC Bulletin 2012-01 is closed effective March 6, 2023.

ADDRESSES: Please refer to NRC-2023-0036 when contacting the NRC about the availability of information regarding this document. You may obtain publicly available information related to this document using any of the following methods:

• Federal Rulemaking Website: Go to https://www.regulations.gov and search for NRC-2023-0036. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Wendell Morton, Office of Nuclear Reactor Regulation, U.S. Nuclear Regulatory Commission, Washington, DC 20555-0001, telephone: 301-415-1658, email: Wendell.Morton@nrc.gov.

SUPPLEMENTARY INFORMATION:

I. Introduction

The NRC is providing this technical summary in this Federal Register notice (FRN) to explain the basis for closure of “NRC Bulletin 2012-01: Design Vulnerability in Electric Power System.” This FRN informs external stakeholders that the adverse impacts on nuclear plant safe operation due to an OPC in the plant offsite power system have been adequately addressed, and the Bulletin is closed.

II. Background

An OPC event occurred in the offsite power circuit at Bryon Unit 2 on January 30, 2012. The station auxiliary transformer (SAT) (offsite power source) high-voltage side event caused unbalanced voltage conditions on the low-voltage side of the SAT, which led to a reactor trip and tripping of certain safety related loads. The existing undervoltage degraded voltage protection scheme failed to detect the unbalanced voltage and did not automatically separate the degraded offsite power source from the onsite power source. Operator action was required to bring the plant to a safe shutdown condition. The event is further described in the “Availability of Documents” section.

In addition to the event previously described, two additional events were discussed in NRC Information Notice 2012-03. In these events, the OPC occurred on the offsite circuits that usually remain energized without a load or with a light load during normal conditions. At the related plants, the safety and non-safety-related loads are normally fed from the main generator through unit auxiliary transformers, therefore the offsite circuits that feed the safety-related loads during plant startup or after unit trip usually remain on no-load or are lightly loaded during normal plant conditions. The OPCs at these plants were not detected for many days. If a design basis event had occurred simultaneously, the unbalanced voltages at the safety-related buses would have increased due to shifting of loads from unit auxiliary transformers to offsite circuits due an OPC and could impact the safety of plants. The degree of unbalanced voltage conditions on the plant buses due to an OPC in the offsite power circuit is dependent on the offsite circuit design parameters, plant configuration, and plant loading conditions. The unbalanced voltage condition can potentially lead to either degraded operation of the safety-related loads if the voltage unbalance is small (about five percent or less) or tripping of the safety-related loads if the voltage unbalance is large, either of which is an unsafe condition. Therefore, the timely mitigation of an OPC is necessary to ensure the safety of the plant.

In light of the Byron and other events, on July 27, 2012, the NRC issued Bulletin 2012-01: Design Vulnerability in Electric Power System. The Bulletin required that all holders of operating licenses and combined licenses for nuclear power reactors verify compliance with the regulatory requirements of General Design Criterion (GDC) 17, “Electric Power Systems,” in Appendix A, “General Design Criteria for Nuclear Power Plants,” to Part 50 of title 10 of the Code of Federal Regulations (10 CFR) or the applicable principal design criteria in the licensees' updated final safety analysis report; and the design criteria for protection systems under 10 CFR 50.55a(h)(2) or 10 CFR 50.55a(h)(3). The licensees were requested to describe plant design features that would allow the existing protective schemes to detect and respond to an OPC.

Licensees provided responses to the Bulletin and the NRC staff issued a summary report of the responses on February 26, 2013. In the summary report, the staff determined that for the operating plants, one or both trains of safety related electrical buses could be affected by an OPC. The NRC staff became aware of the OPC during an event at Byron Unit 2 that rendered both the offsite power system and the onsite power system unable to perform their intended safety functions. The NRC determined further regulatory action was required to ensure detection and automatic system response to an OPC at nuclear power plants. Further, the NRC determined that licensees should ensure that offsite and onsite electric power systems would remain available to permit the functioning of structures, systems, and components important to safety in the event of anticipated operational occurrences and accidents.

III. Discussion

Two public meetings were held with industry on February 13, 2013, and June 13, 2013, in which various industry representatives presented possible solutions for the detection and protection from the new challenge faced due to OPCs. The minutes from these meetings as well as presentations by industry representatives are available in the “Availability of Documents” section.

In its letter dated October 9, 2013, Nuclear Energy Institute (NEI) provided a voluntary industry initiative plan, which included a formal commitment by the licensees to address plant vulnerabilities due to potential OPCs. The initiative goal and definition included: an OPC will not prevent functioning of important-to-safety structures, systems, and components. An OPC is defined as an open phase, with or without a ground, which is located on the high voltage side of a transformer connecting a GDC 17 off-site power circuit to the transmission system. The initiative was slated for completion by December 31, 2017.

Bulletin 2012-01 stated that GDC 17 in 10 CFR part 50, Appendix A, and 10 CFR 50.55a(h)(2) for operating plants or 10 CFR 50.55a(h)(3) for any plants after May 13, 1999, are applicable.

In its letter dated March 21, 2014, NEI provided its perspective that the protection system requirements described in 10 CFR 50.55a(h)(2), “Protection systems,” do not apply to the Open Phase Isolation Systems (OPISs).

In the letter dated August 14, 2014, NEI provided the industry position with respect to various regulatory issues related to OPC.

The NRC provided a November 25, 2014, response to NEI to address the issues raised in the March 2014 and August 2014 letters, and explained that to address OPCs, four functional requirements should be met. The letter also stated that until each licensee has addressed OPCs and informed the NRC that it is in full compliance with GDC 17, or the principal design criteria specified in the updated final safety analysis report for the specific plant regarding OPC, the staff would be recommending an interim enforcement policy (IEP) to the Commission.

NEI provided Revision 1 of the voluntary industry initiative dated March 16, 2015, with a schedule change for OPC modifications completion from December 31, 2017, to December 31, 2018.

In SECY-16-0068, dated May 31, 2016, the NRC staff proposed a revision to the Enforcement Policy to permit the staff to exercise enforcement discretion for certain noncompliance's with technical specifications or GDC 17, and certain nonconformances with the analogous principal design criteria specified in the updated final safety analysis report, as well as noncompliance's with 10 CFR 50.55a(h)(2) or 10 CFR 50.55a(h)(3), and 10 CFR 50.36. The potential violations could be those associated with inoperable electrical power systems (offsite and onsite) caused by an OPC design vulnerability in the offsite electric power system that would require a reactor shutdown or prevent a reactor startup if a licensee could not come into conformance within the technical specification required completion times.

In SRM-SECY-16-0068 dated March 9, 2017, the Commission disapproved the staff's request to establish an IEP. Instead, the Commission directed the staff to (1) verify that licensees have appropriately implemented the voluntary industry initiative; (2) update the Reactor Oversight Process to provide periodic oversight of industry's implementation of the OPC initiative; and (3) close the Bulletin once satisfactory implementation of the technical resolution has been verified for each licensee.

On October 31, 2017, the NRC staff issued Temporary Instruction 2515/194, to verify that licensees appropriately implemented the NEI voluntary industry initiative. The NRC inspectors verified implementation at plants where OPC modifications were substantially complete.

NEI provided Revision 2 of the voluntary industry initiative, dated September 20, 2018, with the completion schedule changed from December 31, 2018, to December 31, 2019. NEI stated that many plants had completed installation of OPIS with other plants scheduled to complete during 2018. However, the monitoring data to date had indicated that installed OPISs would have experienced undesirable spurious actuations if the automatic trip functions had been activated. NEI proposed extended monitoring periods so that licensees could refine OPIS setpoints to minimize spurious actuations.

Due to continuing spurious actuations of OPIS designs observed at some plants, NEI provided Revision 3 dated June 6, 2019, of the initiative. This revision included an option to perform a risk evaluation under certain boundary conditions to support an alarm and manual response to an OPC, instead of an automatic trip response. For plants adopting the risk-informed option, the OPIS design would change from “alarm and automatically trip (isolate)” to “alarm (detect) and manual actions” to isolate the OPC. Written plant alarm response procedures would allow operators to diagnose and take manual actions to mitigate an OPC. NEI also separately provided NEI 19-02, “Guidance for Assessing Open Phase Condition Implementation Using Risk Insights,” referenced in Revision 3 of the initiative.

To evaluate whether safety significance justified requiring automatic OPIS actuation, the NRC staff performed a backfit screening and documented the results in a memo dated May 21, 2020. The analysis determined that automatic OPIS actuation would not result in a substantial increase in the overall protection of the public health and safety. Therefore, the risk-informed option in Revision 3 to the voluntary industry initiative was acceptable.

On August 18, 2020, the NRC staff issued Revision 2 of the Temporary Instruction 2515/194, to verify that licensees have appropriately implemented the NEI voluntary industry initiative, including licensees that adopted the risk-informed option. For licensees where OPIS implementation was still in the monitoring mode and spurious initiations continued to occur, many changed to the risk-informed option of the voluntary industry initiative. Approximately 65 percent of operating power reactors have adopted the risk-informed option. This change, and the COVID-19 pandemic, resulted in delays in licensees' implementation of the voluntary industry initiative and the subsequent inspections at many plants.

As required by SRM-SECY-16-0068, the Reactor Oversight Process Inspection Procedures and the Inspection Manual Chapter were revised to provide periodic oversight of industry's implementation of the OPC voluntary industry initiative.

IV. Conclusion

The staff issued closure letters to each licensee other than Southern Nuclear Company for Vogtle Units 3 and 4. ADAMS accession numbers to these letters are in the “Availability of Documents” section. The closure letters provide further details concerning how licensees addressed OPC at their facilities.

The staff has approved the actions to be taken by the licensee for Vogtle Units 3 and 4 following commencement of operations, by letter dated July 5, 2019, agreeing to the due dates and will inspect these actions under the Reactor Oversight Process. By letter dated August 29, 2018, Southern Nuclear Company to NRC (Vogtle Units 3 and 4), provided regulatory commitments and due dates regarding the OPC.

The licensees of the following plants received Bulletin 2012-01, but subsequently permanently ceased operation prior to addressing the Bulletin: Crystal River 3; Duane Arnold; Fort Calhoun; Indian Point 2; Kewaunee; Oyster Creek; Palisades; Pilgrim 1; San Onofre 2; San Onofre 3; Three Mile Island 1; Vermont Yankee.

Based on the actions taken by the NRC and licensees in response to the Bulletin, the NRC staff finds that all operating plants will continue to operate safely or safely shut down in response to an OPC event. Therefore, Bulletin 2012-01 is closed.

V. Availability of Documents

The documents identified in the following table are available to interested persons through one or more of the following methods, as indicated.

Document description | ADAMS accession No.
Information Notice 2012-03: Design Vulnerability in Electric Power System, dated March 1, 2012 | ML120480170.
Presentation by Exelon Nuclear—Byron Station Single Phase Failure, dated March 22, 2012 | ML120810365.
Licensee Event Report 2012-001-01 “Unit 2 Loss of Normal Offsite Power and Reactor Trip and Unit 1 Loss of Normal Offsite Power Due to Failure of System Auxiliary Transformer Inverted Insulators,” dated September 28, 2012 | ML12272A358.
Byron Unit 2—NRC Special Inspection Team (SIT) Report, dated March 27, 2012 | ML12087A213.
Bulletin 2012-01: Design Vulnerability in Electric Power System, dated July 27, 2012 | ML12074A115.
Summary report of licensee responses, dated February 26, 2013 | ML13052A711.
Public meeting summary | ML13066A774 (package).
Public meeting summary | ML13196A002 (package).
Nuclear Energy Institute (NEI) voluntary industry initiative plan, dated October 9, 2013 | ML13333A147.
NEI perspective letter on Open Phase Isolation Systems (OPISs), dated March 21, 2014 | ML14087A252 (package).
NEI letter that provided the industry position with respect to various regulatory issues related to OPC, dated August 14, 2014 | ML14226A804 (package).
NRC's response to NEI to address the issues raised in the March 2014 and August 2014 letters, and explained that to address OPCs, four functional requirements should be met, dated November 25, 2014 | ML14120A203.
NEI Revision 1 of the voluntary industry initiative plan, dated March 16, 2015 | ML15075A454 (package).
SECY-16-0068, dated May 31, 2016 | ML15219A327, Enclosure ML15219A330.
SRM-SECY-16-0068, dated March 9, 2017 | ML17068A297.
NRC staff issued Temporary Instruction 2515/194, dated October 31, 2017 | ML17137A416.
NEI Revision 2 of the voluntary industry initiative, dated September 20, 2018 | ML18268A114.
NEI Revision 3 of the voluntary industry initiative, dated June 6, 2019 | ML19163A176.
NEI 19-02, “Guidance for Assessing Open Phase Condition Implementation Using Risk Insights,” dated June 20, 2019 | ML19172A086.
NRC backfit screening memo, dated May 21, 2020 | ML19198A304.
NRC Revision 2 of the Temporary Instruction 2515/194, dated August 18, 2020 | ML20230A328.
NRC Response to Supplemental Information for Bulletin 2012-01, Vogtle 3 and 4 (052-25 and 52-026), dated July 5, 2019 | ML19182A206.
Vogtle, Units 3 and 4, Supplement to Response to NRC Bulletin 2012-01, Design Vulnerability in Electric Power System, dated August 29, 2018 | ML18242A012.
Arkansas Nuclear 1 Closure Letter, dated March 5, 2021 | ML21049A307.
Arkansas Nuclear 2 Closure Letter, dated March 5, 2021 | ML21049A307.
Beaver Valley 1 Closure Letter, dated July 15, 2022 | ML22189A184.
Beaver Valley 2 Closure Letter, dated July 15, 2022 | ML22189A184.
Braidwood 1 Closure Letter, dated April 27, 2021 | ML21102A182.
Braidwood 2 Closure Letter, dated April 27, 2021 | ML21102A182.
Browns Ferry 1 Closure Letter, dated May 1, 2020 | ML20104A192.
Browns Ferry 2 Closure Letter, dated May 1, 2020 | ML20104A192.
Browns Ferry 3 Closure Letter, dated May 1, 2020 | ML20104A192.
Brunswick 1 Closure Letter, dated October 12, 2021 | ML21278A002.
Brunswick 2 Closure Letter, dated October 12, 2021 | ML21278A002.
Byron 1 Closure Letter, dated April 27, 2021 | ML21102A182.
Byron 2 Closure Letter, dated April 27, 2021 | ML21102A182.
Callaway Closure Letter, dated July 27, 2021 | ML21201A105.
Calvert Cliffs 1 Closure Letter, dated September 7, 2021 | ML21225A432.
Calvert Cliffs 2 Closure Letter, dated September 7, 2021 | ML21225A432.
Catawba 1 Closure Letter, dated October 19, 2021 | ML21272A183.
Catawba 2 Closure Letter, dated October 19, 2021 | ML21272A183.
Clinton Closure Letter, dated July 8, 2022 | ML22186A150.
Columbia Closure Letter, dated June 29, 2021 | ML21165A344.
Comanche Peak 1 Closure Letter, dated July 26, 2023 | ML23025A353.
Comanche Peak 2 Closure Letter, dated July 26, 2023 | ML23025A353.
Cooper Closure Letter, dated November 22, 2021 | ML21323A074.
D.C. Cook 1 Closure Letter, dated May 26, 2021 | ML22146A113.
D.C. Cook 2 Closure Letter, dated May 26, 2021 | ML22146A113.
Davis-Besse Closure Letter, dated July 21, 2022 | ML22195A223.
Diablo Canyon 1 Closure Letter, dated April 29, 2022 | ML22108A286.
Diablo Canyon 2 Closure Letter, dated April 29, 2022 | ML22108A286.
Dresden 2 Closure Letter, dated April 27, 2021 | ML21102A182.
Dresden 3 Closure Letter, dated April 27, 2021 | ML21102A182.
Farley 1 Closure Letter, dated August 23, 2021 | ML21216A316.
Farley 2 Closure Letter, dated August 23, 2021 | ML21216A316.
Fermi 2 Closure Letter, dated July 21, 2022 | ML22188A089.
FitzPatrick Closure Letter, November 16, 2021 | ML21300A006.
Ginna Closure Letter, dated September 20, 2021 | ML21245A098.
Grand Gulf Closure Letter, dated March 5, 2021 | ML21049A307.
Harris 1 Closure Letter, dated September 29, 2021 | ML21252A389.
Hatch 1 Closure Letter, dated September 20, 2021 | ML21253A113.
Hatch 2 Closure Letter, dated September 20, 2021 | ML21253A113.
Hope Creek 1 Closure Letter, dated March 11, 2022 | ML22060A057.
Indian Point 3 Closure Letter, dated March 5, 2021 | ML21049A307.
La Salle 1 Closure Letter, dated April 27, 2021 | ML21102A182.
La Salle 2 Closure Letter, dated April 27, 2021 | ML21102A182.
Limerick 1 Closure Letter, dated September 13, 2021 | ML21245A084.
Limerick 2 Closure Letter, dated September 13, 2021 | ML21245A084.
McGuire 1 Closure Letter, dated October 27, 2021 | ML21293A026.
McGuire 2 Closure Letter, dated October 27, 2021 | ML21293A026.
Millstone 2 Closure Letter, dated November 15, 2021 | ML21295A412.
Millstone 3 Closure Letter, dated November 15, 2021 | ML21295A412.
Monticello Closure Letter, dated July 29, 2022 | ML22189A019.
Nine Mile Point 1 Closure Letter, dated September 7, 2021 | ML21239A052.
Nine Mile Point 2 Closure Letter, dated September 7, 2021 | ML21239A052.
North Anna 1 Closure Letter, dated May 5, 2020 | ML20065L173.
North Anna 2 Closure Letter, dated May 5, 2020 | ML20065L173.
Oconee 1 Closure Letter, dated February 17, 2022 | ML22045A024.
Oconee 2 Closure Letter, dated February 17, 2022 | ML22045A024.
Oconee 3 Closure Letter, dated February 17, 2022 | ML22045A024.
Palo Verde 1 Closure Letter, April 20, 2022 | ML22102A262.
Palo Verde 2 Closure Letter, April 20, 2022 | ML22102A262.
Palo Verde 3 Closure Letter, April 20, 2022 | ML22102A262.
Peach Bottom 2 Closure Letter, dated September 7, 2021 | ML21196A010.
Peach Bottom 3 Closure Letter dated September 7, 2021 | ML21196A010.
Perry 1 Closure Letter, dated July 13, 2022 | ML22189A177.
Point Beach 1 Closure Letter, dated July 13, 2021 | ML21187A153.
Point Beach 2 Closure Letter, dated July 13, 2021 | ML21187A153.
Prairie Island 1 Closure Letter, dated May 26, 2022 | ML22145A020.
Prairie Island 2 Closure Letter, dated May 26, 2022 | ML22145A020.
Quad Cities 1 Closure Letter, dated April 27, 2021 | ML21102A182.
Quad Cities 2 Closure Letter, dated April 27, 2021 | ML21102A182.
River Bend 1 Closure Letter, dated March 5, 2021 | ML21049A307.
Robinson 2 Closure Letter, dated March 29, 2022 | ML22083A003.
Saint Lucie 1 Closure Letter, dated October 28, 2021 | ML21281A012.
Saint Lucie 2 Closure Letter, dated October 28, 2021 | ML21281A012.
Salem 1 Closure Letter, dated November 19, 2021 | ML21320A204.
Salem 2 Closure Letter, dated November 19, 2021 | ML21320A204.
Seabrook 1 Closure Letter, dated March 24, 2020 | ML20071C899.
Sequoyah 1 Closure Letter, dated May 1, 2020 | ML20104A192.
Sequoyah 2 Closure Letter, dated May 1, 2020 | ML20104A192.
South Texas 1 Closure Letter, dated August 5, 2020 | ML20206L260.
South Texas 2 Closure Letter, dated August 5, 2020 | ML20206L260.
Surry 1 Closure Letter, dated May 5, 2020 | ML20065L173.
Surry 2 Closure Letter, dated May 5, 2020 | ML20065L173.
Susquehanna 1 Closure Letter, dated December 6, 2021 | ML21335A422.
Susquehanna 2 Closure Letter, dated December 6, 2021 | ML21335A422.
Turkey Point 3 Closure Letter, dated July 19, 2022 | ML22187A277.
Turkey Point 4 Closure Letter, dated July 19, 2022 | ML22187A277.
VC Summer Closure Letter, dated September 14, 2021 | ML21242A330.
Vogtle 1 Closure Letter, dated October 22, 2021 | ML21279A167.
Vogtle 2 Closure Letter, dated October 22, 2021 | ML21279A167.
Waterford 3 Closure Letter, dated June 22, 2020 | ML20171A366.
Watts Bar 1 Closure Letter, dated May 1, 2020 | ML20104A192.
Watts Bar 2 Closure Letter, dated May 1, 2020 | ML20104A192.
Wolf Creek 1 Closure Letter, dated February 10, 2022 | ML22040A158.

Dated: March 1, 2023.
For the Nuclear Regulatory Commission.
Lisa M. Regner,
Chief, Generic Communication and Operating Experience Branch, Division of Reactor Oversight, Office of Nuclear Reactor Regulation.

[FR Doc. 2023-04501 Filed 3-3-23; 8:45 am]

BILLING CODE 7590-01-P